DEPARTMENT OF HOMELAND SECURITY

Coast Guard

33 CFR Part 117

[Docket No. USCG-2009-0439]

Drawbridge Operation Regulations; Cheesequake Creek, South Amboy, NJ, Public Event

AGENCY: Coast Guard, DHS.

ACTION: Notice of temporary deviation from regulations.

SUMMARY: The Commander, First Coast Guard District, has issued a temporary deviation from the regulation governing the operation of the Route 35 Bridge across Cheesequake Creek, mile 0.0, at South Amboy, New Jersey. This deviation is necessary to facilitate the Rolling Thunder Freedom Ride. The deviation allows the bridge to remain in the closed position for one hour during a public event to facilitate public safety.

DATES: This deviation is effective from 11:45 a.m. through 12:45 p.m. on September 20, 2009.

ADDRESSES: Documents mentioned in this preamble as being available in the docket are part of docket USCG-2009-0439 and are available online by going to www.regulations.gov, selecting the Advanced Docket Search option on the right side of the screen, inserting USCG-2009-0439 in the docket ID box, pressing enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, telephone 212 668-7165, joe.m.arca@uscg.mil. If you have questions on viewing the docket, call Renee V. Wright, Program Manager, Docket Operations, telephone 202-366-9826.

SUPPLEMENTARY INFORMATION: The owner of the bridge, the New Jersey Department of Transportation, requested this temporary deviation to facilitate a public event, the Rolling Thunder Freedom Ride. The bridge must remain in the closed position for one hour while the riders pass over the bridge.

The Route 35 Bridge, across the Cheesequake Creek at mile 0.3, at South Amboy, New Jersey, has a vertical clearance in the closed position of 25 feet at mean high water and 30 feet at mean low water. The drawbridge operation regulations are listed at 33 CFR 117.709.

Under this temporary deviation the Route 35 Bridge may remain in the closed position from 11:45 a.m. through 12:45 p.m. on September 20, 2009. Vessels that can pass under the draw in the closed position may do so at all times.

In accordance with 33 CFR 117.35(e), the bridge must return to its regular operating schedule immediately at the end of the designated time period. This deviation from the operating regulations is authorized under 33 CFR 117.35.

Dated: June 3, 2009.
Gary Kassof,
Bridge Program Manager, First Coast Guard District.

[FR Doc. E9-14769 Filed 6-23-09; 8:45 am]

BILLING CODE 4910-15-P